COMMISSION ON CIVIL RIGHTS

Sunshine Act Meeting

AGENCY: United States Commission on Civil Rights.

ACTION: Notice of meeting.

Date and Time: Friday, June 8, 2012; 9:30 a.m. EDT.

PLACE: 624 Ninth Street NW., Room 540, Washington, DC 20425.

Meeting Agenda

This meeting is open to the public.

I. Approval of Agenda

II. Program Planning Update and Discussion of Projects:

• Discussion on Strategic Plan

• Discussion on 2012 Statutory Report

• Vote on 2013 Statutory Report Topic

III. Management and Operations

• Discussion on 2012 Budget and 2013 Budget Request

• Discussion on Agency Staffing

IV. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: May 29, 2012.
Kimberly Tolhurst,
Senior Attorney-Advisor.

[FR Doc. 2012-13284 Filed 5-29-12; 11:15 am]

BILLING CODE 6335-01-P